FEDERAL COMMUNICATIONS COMMISSION

47 CFR Part 73

[MB Docket No. 21-124; RM-11891; DA 22-32; FR ID 67662]

Television Broadcasting Services Henderson, Nevada

AGENCY: Federal Communications Commission.

ACTION: Final rule.

SUMMARY: On July 28, 2021, the Media Bureau, Video Division (Bureau) issued a Notice of Proposed Rulemaking (NPRM) in response to a petition for rulemaking filed by KVUU-TV Broadcasting Corporation (Petitioner), the licensee of KVUU, channel 9, Henderson, Nevada, requesting the substitution of channel 24 for channel 9 at Henderson in the Table of Allotments. For the reasons set forth in the Report and Order referenced below, the Bureau amends FCC regulations to substitute channel 24 for channel 9 at Henderson.

DATES: Effective January 21, 2022.

FOR FURTHER INFORMATION CONTACT: Joyce Bernstein, Media Bureau, at (202) 418-1647 or Joyce.Bernstein@fcc.gov.

SUPPLEMENTARY INFORMATION: The proposed rule was published at 86 FR 41916 on August 4, 2021. The Petitioner filed comments in support of the petition reaffirming its commitment to apply for channel 24. Gray Television, LLC, which acquired the station, also filed comments in support of the petition and stating its commitment to apply for channel 24. In support of its channel substitution request, the Petitioner states that the Commission has recognized that VHF channels have certain characteristics that pose challenges for their use in providing digital television service, and that KVVU-TV has received numerous complaints of poor or no reception from viewers within its noise limited contour. While the channel 24 noise limited contour will not fully encompass the existing channel 9 contour, only 152 persons would lose service from KVVU, and no viewers would lose access to their first or second over-the-air television service. While 152 persons are predicted to lose service from KVVU, the Commission considers such a loss to be de minimis.

This is a synopsis of the Commission's Report and Order, MB Docket No. 21-124; RM-11891; DA 22-32, adopted January 12, 2022, and released January 12, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Nevada, by revising the entry for Henderson to read as follows:

§ 73.622 Digital television table of allotments.

* * * * *

(j) * * *

Community | Channel No.
* * * * *
NEVADA
* * * * *
Henderson | 24
* * * * *

[FR Doc. 2022-01088 Filed 1-20-22; 8:45 am]

BILLING CODE 6712-01-P